DEPARTMENT OF TRANSPORTATION

Federal Highway Administration

Notice of Final Federal Agency Actions on Proposed Highway in California

AGENCY: Federal Highway Administration (FHWA), Department of Transportation (DOT).

ACTION: Notice of Limitations on Claims for Judicial Review of Actions by the California Department of Transportation (Caltrans).

SUMMARY: The FHWA, on behalf of Caltrans, is issuing this notice to announce actions taken by Caltrans that are final. The actions relate to a proposed highway project, the State Route 9 (SR-9) Saratoga Creek Bridge Project at Post Mile 4.85, west of the City of Saratoga, Santa Clara County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 20, 2020. If the Federal law that authorizes judicial review of a claim provides a time period of less than 150 days for filing such claim, then that shorter time period still applies.

FOR FURTHER INFORMATION CONTACT: For Caltrans: Brian Gassner, Environmental Branch Chief, Office of Environmental Analysis, California Department of Transportation—District 4, 111 Grand Avenue, Oakland, California. Office hours: Monday through Friday 8:00am-4:30pm, Pacific Standard time, telephone (510) 286-6025 or email brian.gassner@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that Caltrans has taken final agency actions subject to 23 U.S.C. 139(l)(1) by issuing licenses, permits, and approvals for the following highway project in the State of California: Seismic and structural improvements to Saratoga Creek Bridge, located at Post Mile (PM) 4.85 along SR-9, west of the City of Saratoga, in Santa Clara County. The project proposes to construct a new bridge while maintaining much of the original outer structure. The purpose of the project is to maintain safe and stable connectivity on SR-9 between the City of Saratoga in Santa Clara County and the community of Felton in Santa Cruz County. The actions taken by the Federal agencies, and the laws under which such actions were taken, are described in the Final Environmental Assessment (FEA) and Finding of No Significant Impact (FONSI) for the project, approved on January 28, 2020, and in other documents in the Caltrans' project records. The FEA, FONSI and other project records are available by contacting Caltrans at the address provided above. The Caltrans Final EIR/EA and FONSI can be viewed and downloaded from the project website at https://dot.ca.gov/caltrans-near-me/district-4/d4-projects/d4-santa-clara-sr9-saratoga-creek-bridge, or viewed at the Saratoga Public Library or Saratoga City Hall. This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Wildlife: Endangered Species Act [16 U.S.C. 1531-1544 and Section 1536]; Fish and Wildlife Coordination Act [16 U.S.C. 661-667(d)]; Migratory Bird Treaty Act 16 U.S.C. 703-712].

4. Wetlands and Water Resources: Clean Water Act (Section 404 and Section 401) [33 U.S.C. 1251-1377]; Safe Drinking water Act (SDWA) [42 U.S.C. 300(f)-300(j)(6)].

5. Historic and Cultural Resources: Section 106 of the National Historic Preservation Act of 1966, as amended [16 U.S.C. 470(f) et seq.]; Historic Sites Act of 1935 [16 U.S.C. 461-467].

6. Section 4(f): Department of Transportation Act of 1966 [49 U.S.C. 303]; Federal-Aid Highway Act of 1968 [23 U.S.C. 138].

7. Social and Economic: Civil Rights Act of 1964 [42 U.S.C. 2000(d)-2000(d)(1)].

8. Health: Resource Conservation and Recovery Act [42 U.S.C. 6901 et seq.]; Comprehensive Environmental Response, Compensation, and Liability Act [42 U.S.C. 9601 et seq.]; Atomic Energy Act [42 U.S.C. 2011-2259]; Toxic Substance Control Act [15 U.S.C. 2601-2629]; Community Environmental Response Facilitation Act; Occupational Safety and Health Act [29 U.S.C. 651]; Federal Insecticide, Fungicide, and Rodenticide Act [7 U.S.C. 136].

9. Executive Orders: E.O. 12088 Federal Compliance with Pollution Control Standards; E.O. 12898 Federal Actions to Address Environmental Justice in Minority Populations and Low-Income Populations; E.O. 13112 Invasive Species; E.O. 11988 Floodplain Management

(Catalog of Federal Domestic Assistance Program Number 20.205, Highway Planning and Construction. The regulations implementing Executive Order 12372 regarding intergovernmental consultation on Federal programs and activities apply to this program.)

Authority: 23 U.S.C. 139(l)(1)

Tashia J. Clemons,
Director, Planning and Environment, Federal Highway Administration, California Division.

[FR Doc. 2020-03420 Filed 2-19-20; 8:45 am]

BILLING CODE 4910-RY-P